DEPARTMENT OF DEFENSE

Office of the Secretary of Defense

Public Meeting of the Defense Advisory Committee on Military Compensation

AGENCY: DoD.

ACTION: Notice.

SUMMARY: On December 29, 2005, the Department of Defense published a notice of meeting (70 FR 77150) scheduled for January 24, 2006, 10 a.m. Due to last minute cancellations of committee members, attendance would be insufficient to conduct public deliberations, therefore the meeting is canceled. This announces the cancellation. This meeting will be rescheduled and announced at a later date.

FOR FURTHER INFORMATION CONTACT: LTC Janet Fenton, Designated Federal Official, Defense Advisory Committee on Military Compensation, 2521 S. Clark Street, Arlington, VA 22202. Telephone: 703-699-2718.

Dated: January 25, 2006.
L.M. Bynum,
Alternate OSD Federal Register, Liaison Officer, Department of Defense.

[FR Doc. 06-872 Filed 1-30-06; 8:45 am]

BILLING CODE 5001-06-M